ARCHITECTURAL AND TRANSPORTATION BARRIERS COMPLIANCE BOARD

Courthouse Access Advisory Committee; Meeting

AGENCY: Architectural and Transportation Barriers Compliance Board.

ACTION: Notice of meeting.

SUMMARY: The Architectural and Transportation Barriers Compliance Board (Access Board) has established an advisory committee to advise the Board on issues related to the accessibility of courthouses covered by the Americans with Disabilities Act of 1990 and the Architectural Barriers Act of 1968. The Courthouse Access Advisory Committee (Committee) includes organizations with an interest in courthouse accessibility. This notice announces the dates, times and location of the next Committee meeting, which will be open to the public.

DATES: The Committee is scheduled to present its recommendations to the Board on November 15, 2006 at 3 p.m. The Committee may tentatively meet on November 14, 2006 (beginning at 1 p.m. and ending at 5 p.m.) and on November 15, 2006 (beginning at 9 a.m. and ending at 12 p.m.) to discuss and approve final deliverables and its presentation to the Board. Changes to this schedule will be posted on the Board's Web site at http:// www.access-board.gov/caac/index.htm.

ADDRESSES: The meetings will be held at the Marriott at Metro Center Hotel, 775 12th Street NW., Washington, DC.

FOR FURTHER INFORMATION CONTACT: David Yanchulis, Office of Technical and Information Services, Architectural and Transportation Barriers Compliance Board, 1331 F Street, NW., Suite 1000, Washington, DC 20004-1111. Telephone number (202) 272-0026 (Voice); (202) 272-0082 (TTY). E-mail yanchulis@access-board.gov.

SUPPLEMENTARY INFORMATION: In 2004, as part of the outreach efforts on courthouse accessibility, the Access Board established a Federal advisory committee to advise the Access Board on issues related to the accessibility of courthouses, particularly courtrooms, including best practices, design solutions, promotion of accessible features, educational opportunities, and the gathering of information on existing barriers, practices, recommendations, and guidelines. On October 12, 2004, the Access Board published a notice appointing 31 members to the Courthouse Access Advisory Committee. 69 FR 60608 (October 12, 2004). Members of the Committee include designers and architects, disability groups, members of the judiciary, court administrators, representatives of the codes community and standard-setting entities, government agencies, and others with an interest in the issues to be explored. The Committee held its initial meeting in November 2004. Members discussed the current requirements for accessibility, committee goals and objectives, and the establishment of subcommittees. The Committee established three subcommittees: Education, Courtrooms and Courthouses (areas unique to courthouses other than courtrooms).

The Committee has held quarterly meetings in the following cities: Phoenix (February 2005), Washington, DC (May 2005), Chicago (August 2005), San Francisco (November 2005), Washington, DC (February 2006), Miami (May 2006), and Boston (July 2006). At each of these meetings, Committee members toured area courthouses and held full Committee and subcommittee sessions. At its next and final meeting in Washington, DC, the Committee will present its recommendations to the Board. Meeting minutes and other information about the Committee are available on the Access Board's Web site at http://www.access-board.gov/caac/index.htm.

Committee meetings are open to the public and interested persons can attend the meetings and communicate their views. The meeting will be held at a site accessible to individuals with disabilities. Real-time captioning will be provided. Individuals who require sign language interpreters should contact David Yanchulis by November 7, 2006. Persons attending Committee meetings are requested to refrain from using perfume, cologne, and other fragrances for the comfort of other participants.

This document is available in alternate formats (cassette tape, Braille, large print, or computer disk). This document is also available on the Board's Internet site (http://www.access-board.gov/caac/meeting.htm).

Lawrence W. Roffee,
Executive Director.

[FR Doc. E6-18166 Filed 10-27-06; 8:45 am]

BILLING CODE 8150-01-P